DEPARTMENT OF TRANSPORTATION

Federal Aviation Administration

Notice of Intent To Conduct Environmental Scoping for an Environmental Assessment To Be Prepared by the City of Chicago for Its Proposed O'Hare World Gateway Program at O'Hare International Airport in Chicago, Illinois

AGENCY: Federal Aviation Administration, DOT.

ACTION: Notice to hold a public scoping meeting.

SUMMARY: The Federal Aviation Administration (FAA) is issuing this notice to advise Federal, State and local agencies, and the general public, that an opportunity will be given to provide input as to the scope of an Environmental Assessment to be prepared by the City of Chicago for its proposed O'Hare World Gateway Program (WGP) for Chicago O'Hare International Airport in Chicago, Illinois. The WGP is a comprehensive effort by the city of Chicago to provide improved terminal space, additional parking, taxiway improvements, cargo support facilities, and Airport roadway access improvements. The City of Chicago Department of Aviation has made a decision to initiate the preparation of an Environmental Assessment. The FAA has offered to facilitate the environmental review process by soliciting scoping comments form Federal, State and local agencies. If during the environmental review process the FAA finds that no significant adverse environmental impacts are associated with the proposed actions, then a Finding of No Significant Impact (FONSI) would be issued. If the FAA finds that significant adverse impacts would be associated with the proposed actions, an Environmental Impact Statement will be prepared.

FOR FURTHER INFORMATION CONTACT: City of Chicago Department of Aviation—Carol Wilinski, City of Chicago Department of Aviation, Chicago O'Hare International Airport, P.O. Box 66142, Chicago, Illinois, 60666. Ms. Wilinski can be contacted at (773) 894-6900 (voice), (773) 686-3743 (facsimile), or by e-mail at WGP_ENVIRONMENT@OHARE.COM.

Federal Aviation Administration (for informational purposes)—Prescott C. Snyder, Airports Environmental Program Manger, Federal Aviation Administration, Chicago Airports District Office, Room 320, 2300 East Devon Avenue, Des Plaines, Illinois 60018. Mr. Snyder can be contacted at (847) 294-7538 (voice), (847) 294-7046 (facsimile) or by e-mail at 9-AGL-ORD-WGP-ENV@FAA.GOV.

SUPPLEMENTARY INFORMATION: At the request of the City of Chicago, the FAA will be reviewing an Environmental Assessment to be prepared by the City of Chicago that will evaluate the environmental impact of the City of Chicago's O'Hare World Gateway Program (WGP). The WGP will address the operational pressures posed by changing airline industry conditions and efforts by the City of Chicago to address these pressures and improve convenience and amenities for the flying public at O'Hare International Airport.

The major physical elements of the overall WGP include proposals for the following terminal development, airside improvements, and landside improvements:

• Terminal development components include two new terminals (TD/T6), the reconstruction of an existing concourse facility (T2, Concourse E/F), extension of Concourse K, utility systems/Heating & Refrigeration plant modifications, and replacement cargo facilities.

• Airside improvements include construction and reconfiguration of taxiways, aprons, and taxilanes in conjunction with new and reconfigured terminal facilities. This would include construction of an extension to Taxiway B and partial reconstruction of Taxiways A and B.

• Key landside components include improvements to terminal access roads and curbfronts, extension of the O'Hare airport transit system (ATS), additional parking, and consolidated rental car facilities.

In addition to the planned improvements in the WGP, the City of Chicago will review for purposes of assessing cumulative impacts any other clearly defined projects for the years 1997 through 2012. Included are renewal and replacement projects, rehabilitation needs and on-going capital reinvestment. Also, the Airport is marketing undeveloped or underutilized parcels of the northeast portion of the airport to attract private commercial development. Some of the projects have already been evaluated from the environmental perspective and work has begun or is about to begin. Others are awaiting environmental evaluation.

To ensure that all significant issues related to the proposed actions are identified, two scoping meetings will be held as part of an ongoing comprehensive public outreach effort by the City of Chicago. Copies of a scoping document with additional detail can be obtained by contacting the City of Chicago Department of Aviation informational contact person identified above. Federal, State and local agencies and other interested parties are invited to make comments and suggestions to ensure that the full range of issues related to these proposed actions are addressed and all significant issues identified. All reasonable alternatives will be considered including the no-action option. Additional public outreach opportunities will be provided in the future for the public to review and comment on the draft Environmental Assessment.

Comments and suggestions should be received by the City of Chicago Department of Aviation contact person, identified above, by close of business Friday, October 20, 2000. Informational copies of comments may also be sent to the FAA Contact identified above.

Public Scoping Meetings

To facilitate receipt of comments, two public scoping meetings will be held on Thursday, October 5, 2000. An Agency Scoping Meeting will be held for Federal, State and local agencies from 10:00 a.m.-12:00 p.m. in the Michigan Conference Room at the Federal Aviation Administration's Great Lakes Region Office, 2300 East Devon Avenue, Des Plaines, Illinois. All persons planning to attend the agency scoping meeting which is during office hours should bring picture identification and if possible call ahead to acknowledge their expected attendance. This will facilitate issuance of a building security pass.

A Public Scoping Workshop will be held for members of the public and other interested parties between 5:00 p.m.-8:00 p.m. on the same day, Thursday, October 5, 2000. This meeting will be held at the Fountain Blue Banquets, 2300 S. Mannheim Road, Des Plaines, Illinois 60018.

Issued in Des Plaines, Illinois on August 24, 2000.
Philip M. Smithmeyer,
Manager, Chicago Airports District Office, FAA, Great Lakes Region.

[FR Doc. 00-22366 Filed 8-30-00; 8:45 am]

BILLING CODE 4910-13-M